DEPARTMENT OF HEALTH AND HUMAN SERVICES

Centers for Disease Control and Prevention

[Program Announcement 00078]

National Conference of State Legislatures; Notice of Availability of Funds

A. Purpose

The Centers for Disease Control and Prevention (CDC) announces the availability of fiscal year (FY) 2000 funds for a grant program for the National Conference of State Legislatures to develop educational initiatives and provide an information forum for State policymakers on all areas of public health.

CDC is committed to achieving the health promotion and disease prevention objectives of “Healthy People 2010” a national activity to reduce morbidity and mortality and improve the quality of life. This announcement is related to the focus areas of: Arthritis, Osteoporosis and Chronic Back Conditions; Cancer; Diabetes; Disability and Secondary Conditions; Educational and Community-Based Programs; Environmental Health; Family Planning; Food Safety; Health Communication; Heart Disease and Stroke; HIV; Immunization and Infectious Diseases; Injury and Violence Prevention; Maternal, Infant and Child Health; Nutrition and Overweight; Occupational Safety and Health; Oral Health; Physical Activity and Fitness; Public Health Infrastructure; Respiratory Diseases; Sexually Transmitted Diseases; Substance Abuse; Tobacco Use; and Vision and Hearing. For the conference copy of “Healthy People 2010,” visit the internet site: <http://www.health.gov/healthypeople>

The broad purposes of the grant are to develop educational initiatives and provide an information forum on public health for policymakers, and to provide accurate, comprehensive, and timely information on public health issues to State policymakers for the development of effective public health policy at the State level. Priority areas in the first budget year are prevention, early detection, and control of disease and injury, the promotion of healthy behaviors, and strengthening State and local public health agencies.

B. Eligible Applicants

Assistance will be provided only to the National Conference of State Legislatures (NCSL). No other applications are solicited.

NCSL is the only bipartisan organization that represents legislatures and their staff of the 50 States. NCSL is a unique source for policy research, publications, consulting services, and meetings. NCSL tailors these services to State legislators, committees, and their staff. It is the only national conduit for State legislators to communicate with each other to share ideas. NCSL provides a unique network for sharing experiences and information with legislators and staffs throughout the nation.

The NCSL is the source for information on hundreds of policy issues. It connects legislators with policy innovators and national experts. It also uses a variety of technologies and resources to assist legislators and their staff that include:

1. Research and analysis for States on emerging and priority issues and innovative State enterprises.

2. Information Clearinghouse to track, evaluate, and disseminate information on State programs and State best practices.

3. Publications with formats designed specifically for the State legislators. NCSL produces regular reports, issue briefs, legislative briefs, and articles on issues critical to States.

4. Conducts National meetings and intensive workshops planned specifically for the legislators and their staff to support State-to-State communication on technical issues and assistance in solving State focused problems. As the nation's only organization that represents and links legislators and their staff from all 50 States, NCSL is in a unique position to disseminate information on public health issues to State legislatures and convene information-sharing meetings among State legislative representatives and staff.

Note: Public Law 104-65 states that an organization described in section 501(c)(4) of the Internal Revenue Code of 1986 that engages in lobbying activities is not eligible to receive Federal funds constituting an award, grant, cooperative agreement, contract, loan, or any other.

C. Availability of Funds

Approximately $1,314,300 will be available in FY 2000 to fund public health activities under this grant. Award amounts for each division activity are provided in Attachment I. It is expected the award will begin on or about September 2, 2000, and will be for a 12-month budget period within a project period of up to 3 years. Funding estimates may change.

Continuation awards within an approved project period will be made on the basis of satisfactory progress as evidenced by required reports and the availability of funds.

D. Program Requirements

The recipient will be responsible for carrying out activities to support the following:

1. Develop, maintain, and publicize an information clearinghouse for use by State policymakers on issues that relate to public health, to include the prevention, early detection, and control of disease and injury; and the preparedness, capacity, and performance of State and local public health agencies, including the public health workforce.

2. Develop, print, and distribute articles, reports, and other information relating to public health for use by State policymakers.

3. Convene regional and national meetings of State government employees, State legislators and their staff, and others as appropriate for discussion of public health issues to include appropriate topics, audiences and workshops to exchange information.

4. Track relevant State legislation and legislative activities related to public health. Provide quarterly updates to State policymakers on legislation and legislative actions on public health issues such as adolescent health; arthritis, osteoporosis and chronic back conditions; cancer; diabetes; obesity; disability and secondary conditions; educational and community-based programs; environmental health issues, including childhood lead poisoning, safe drinking water, and pediatric asthma; heart disease and stroke; HIV infection; immunization and infectious diseases; maternal, infant and child health; nutrition; oral health; physical activity and fitness; sexually transmitted diseases; injury; tobacco use; State and local public health legal authorities; and other topics. This activity shall not be intended to support or defeat particular State legislation.

5. Coordinate activities with State and local health department contacts, including public health experts, to ensure that NCSL members are aware of public health programs and activities in their State or region.

6. Expand above activities to include other public health areas, when agreed upon by CDC and NCSL.

E. Application Content

Use the information in the Program Requirements, Other Requirements, and Evaluation Criteria sections to develop the application content. The application will be evaluated on the criteria listed, so it is important to follow them in laying out the program plan. The narrative should be no more than 30 double-spaced pages, printed on one side, with one-inch margins, and unreduced font.

F. Submission and Deadline

Application

Submit the original and two copies of Application Form 5161-1. Forms are in the application kit.

Submit the application on or before July 14, 2000, to the Grants Management Specialist identified in the “Where to Obtain Information section” of this announcement.

Deadline: Applications shall be considered as meeting the deadline if they are either:

(a) Received on or before the deadline date; or

(b) Sent on or before the deadline. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

The application will be evaluated according to the following criteria by an independent review group appointed by CDC:

1. Background and Need (5 Points)

The extent to which the applicant identifies specific needs related to the purpose of the program.

2. Objectives (20 Points)

The degree to which short-term and long-term objectives are specific, time-phased, measurable, realistic, and related to identified needs.

3. Methods (35 Points)

The extent to which the plan for achieving the proposed activities appears realistic and feasible, and relates to the stated purposes of this grant.

4. Administration and Management (15 Points)

The degree to which the proposed staff have the background, qualifications, and experience; and the organizational structure demonstrate an ability to conduct proposed activities.

5. Evaluation Plan (25 Points)

The extent to which the evaluation plan appears capable of monitoring progress toward meeting project objectives.

6. Budget and Justification (Not Scored)

The extent to which the budget is reasonable and consistent with the purposes and activities of the program.

H. Other Requirements

Technical Reporting Requirements

Provide CDC with original plus two copies of:

1. Quarterly progress reports are required no later than 30 days after the quarterly reporting period.

2. Financial status report, no more than 90 days after the end of the budget period; and

3. Final financial status and performance reports, no more than 90 days after the end of the project period.

The following additional requirements are applicable to this program. For a complete description of each, see Attachment II in the application kit.

AR-7 | Executive Order 12372 Review.
AR-9 | Paperwork Reduction Act Requirements.
AR-10 | Smoke-Free Workplace Requirements.
AR-11 | Healthy People 2010.
AR-12 | Lobbying Restrictions.
AR-15 | Proof of Nonprofit Status.

I. Authority and Catalog of Federal Domestic Assistance Number

This program is authorized under sections 301(a), 317(k)(2), and 1706 (42 U.S.C. 241(a), 247b(k)(2)) of the Public Health Service Act, as amended.” The Catalog of Federal Domestic Assistance number is 93.283.

J. Where to Obtain Additional Information

This and other CDC announcements can be found on the CDC home page Internet address—http://www.cdc.gov.

To obtain additional information contact:

Cynthia R. Collins, Grants Management Specialist Grants, Management Branch, Procurement and Grants Office, Centers for Disease Control and Prevention (CDC), 2920 Brandywine Rd., Room 3000, Atlanta, GA 30341-5539, telephone: (770) 488-2757, email: coc9@cdc.gov.

For program technical assistance, contact:

Lisa Daily, Associate Director for Planning, Evaluation and Legislation, National Center for Chronic Disease, Prevention and Health Promotion, Program Announcement 00078, Centers for Disease Control and Prevention (CDC), 4770 Buford Highway, NE MS K-40, Atlanta, GA 30341, telephone (770) 488-5403, e-mail: lid1@cdc.gov.

Dated: May 17, 2000.
John L. Williams,
Director, Procurement and Grants Office, Center for Disease Control, and Prevention (CDC).

[FR Doc. 00-12882 Filed 5-22-00; 8:45 am]

BILLING CODE 4163-18-P